DEPARTMENT OF ENERGY

Federal Energy Regulatory Commission

Combined Notice of Filings #2

Take notice that the Commission has received the following Natural Gas Pipeline Rate and Refund Report filings:

Docket Numbers: RP20-553-000.

Applicants: Algonquin Gas Transmission, LLC.

Description: § 4(d) Rate Filing: Negotiated Rate—Releases to Plymouth Rock to be effective 3/1/2020.

Filed Date: 2/26/20.

Accession Number: 20200226-5064.

Comments Due: 5 p.m. ET 3/9/20.

Docket Numbers: RP20-554-000.

Applicants: Cimarron River Pipeline, LLC.

Description: § 4(d) Rate Filing: Fuel Tracker 2020—Summer Season Rates to be effective 4/1/2020.

Filed Date: 2/26/20.

Accession Number: 20200226-5068.

Comments Due: 5 p.m. ET 3/9/20.

Docket Numbers: RP20-555-000.

Applicants: Mitsui & Co. Energy Marketing and Service, MITSUI & CO. CAMERON LNG SALES LLC.

Description: Joint Petition for Limited Waivers, et al. of Mitsui & Co. Energy Marketing and Services (USA) Inc., et al. under RP20-555.

Filed Date: 2/25/20.

Accession Number: 20200225-5208.

Comments Due: 5 p.m. ET 3/3/20.

Docket Numbers: RP20-556-000.

Applicants: Midwestern Gas Transmission Company.

Description: § 4(d) Rate Filing: Annual Fuel Retention Percentage Adjustment—2020 Rate to be effective 4/1/2020.

Filed Date: 2/26/20.

Accession Number: 20200226-5088.

Comments Due: 5 p.m. ET 3/9/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2020.
Nathaniel J. Davis, Sr.,
Deputy Secretary.

[FR Doc. 2020-04400 Filed 3-3-20; 8:45 am]

BILLING CODE 6717-01-P